DEPARTMENT OF LABOR

Employment and Training Administration

Notice of Determinations Regarding Eligibility To Apply for Worker Adjustment Assistance

In accordance with section 223 of the Trade Act of 1974, as amended (19 U.S.C. 2273) the Department of Labor herein presents summaries of determinations regarding eligibility to apply for trade adjustment assistance for workers by (TA-W) number issued during the period of October 26, 2015 through November 6, 2015.

In order for an affirmative determination to be made for workers of a primary firm and a certification issued regarding eligibility to apply for worker adjustment assistance, each of the group eligibility requirements of Section 222(a) of the Act must be met.

I. Under section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of section 222(b) of the Act must be met.

(1) a significant number or proportion of the workers in the workers' firm have become totally or partially separated, or are threatened to become totally or partially separated;

(2) the workers' firm is a Supplier or Downstream Producer to a firm that employed a group of workers who received a certification of eligibility under section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1- year period preceding the 1-year period described in paragraph (2).

Affirmative Determinations For Worker Adjustment Assistance

The following certifications have been issued. The date following the company name and location of each determination references the impact date for all workers of such determination.

The following certifications have been issued. The requirements of section 222(a)(2)(A) (increased imports) of the Trade Act have been met.

TA-W No. | Subject firm | Location | Impact date
85,122 | Bimbo Bakeries, USA, Inc., BBU, Inc., Earthgrains Baking Companies, Inc. | Wichita, KS | March 5, 2013.
85,197 | Bimbo Bakeries, USA, Inc., BBU, Inc., Orograin Bakeries Manufacturing, Inc. | Bay Shore, NY | April 1, 2013.
85,864 | Derwich Industries, Inc. | Grayling, MI | March 6, 2014.
86,047 | Republic Steel, Cold-Finished Division | Gary, IN | May 29, 2014.
90,059 | Radiant Thermal Products Inc. | Roselle, NJ | January 1, 2014.
90,212 | Verso Corporation, Androscoggin Mill, Verso Paper, LLC, Elite Staffing | Jay, ME | January 1, 2014.

The following certifications have been issued. The requirements of section 222(a)(2)(B) (shift in production or services) of the Trade Act have been met.

TA-W No. | Subject firm | Location | Impact date
85,003 | Warner Brothers Home Entertainment Inc., Warner Home Video Division, Randstad US, Pacific Tech, DLC | Burbank, CA | January 3, 2013.
85,048 | British Telecommunications, British Telecommunications Voice Telecommunications, Voice and Change Mgt. | Princeton, NJ | January 31, 2013.
85,182 | M*Modal Services, Ltd., Medquist | Franklin, TN | March 30, 2014.
85,744 | Kroll Factual Data, Inc., Kroll Inc., Manpower, Aerotek, Appleone | Loveland, CO | December 19, 2013.
85,858 | Transcend Services, Inc., Nuance Communications, Inc. | Atlanta, GA | February 25, 2014.
85,858A | Transcend Services, Inc., Nuance Communications, Inc. | Burlington, MA | February 25, 2014.
85,999 | Carlson Craft, The Occasions Group, Volt Workforce Solutions, and Spherion | North Mankato, MN | May 7, 2014.
86,058 | Merkle Inc., Merkle Group Inc. | Montvale, NJ | June 2, 2014.
90,018 | Eaton Corporation, Bartech Group | Watertown, WI | January 1, 2014.
90,019 | East Wind Code, Ltd., East Wind Code, Ltd., Vivienne Tam | New York, NY | January 1, 2014.
90,034 | Agfa Corporation | City of Industry, CA | January 1, 2014.
90,035 | Airtex Products L.P., Airtex Industries, LLC, UCI-Airtex Holdings, Inc., Manpower | Fairfield, IL | December 25, 2015.
90,067 | Frutarom USA Inc. | North Bergen, NJ | January 1, 2014.
90,077 | DENTSPLY International Inc., Corporate Division, Addeco, JFC Global, Accountemps | York, PA | January 1, 2014.
90,086 | American Express Travel Related Services Company, Inc., Global Credit Administration (GCA), Global Fraud Protection Services, etc. | Salt Lake City, UT | January 1, 2014.
90,102 | Apex Tool Group, LLC, Kelly Services, Inc., CPS Professionals | Cortland, NY | January 1, 2014.
90,109 | Echo Bay Minerals Company, Kinross Gold Corporation, Spring Clean, Stotts Construction, Inc., etc. | Republic, WA | January 1, 2014.
90,112 | Mondelez Global LLC, Integrated Supply Chain Division, Mondelez International, Fayette Industrial | Chicago, IL | January 1, 2014.
90,120 | Kelly-Smith Printing & Paper | Newport, ME | January 1, 2014.
90,133 | Eastland Shoe Corporation, Labor Ready and Bonney Staffing | Freeport, ME | January 1, 2014.
90,137 | CyOptics, Inc., Avago Technologies Limited, Laser Package Department, Aerotek, etc. | Breinigsville, PA | January 1, 2014.
90,152 | Micro Pneumatic Logic, Inc., MFG., Affinity Resources, LLC | Pompano Beach, FL | January 1, 2014.
90,173 | Diamond Power International, Inc., Diamond Power Specialty Company, Babcock; Wilcox Company | Lancaster, OH | January 1, 2014.
90,176 | National Captioning Institute, Inc., Spanish Real-Time Captioning | Dallas, TX | January 1, 2014.
90,218 | Legend3D, Inc. | Carlsbad, CA | January 1, 2014.
90,235 | Parker Hannifin Corporation (Fontana Location), Medical Systems Division, Workforce Solutions, Office Team | Fontana, CA | January 1, 2014.
90,243 | Gildan Garments, Inc., Gildan Activewear, Inc., Comfort Colors by Chouinard, Kelly Services, Inc. | Northfield, VT | January 1, 2014.
90,251 | Caterpillar, Inc., Large Power Systems Division, A to Z Sheet Metal, Inc., etc. | Lafayette, IN | January 1, 2014.
90,258 | Rexton, Sivantos, Inc. | Plymouth, MN | January 1, 2014.
90,334 | Cummins Filtration, Cummins Inc., Apollo Security | Lake Mills, IA | October 25, 2015.
91,000 | TitanX Engine Cooling | Jamestown, NY | September 21, 2014.
91,002 | Newell Rubbermaid, Inc., Na-Newekk Rubbermaid, Human American Data Center, Huges Resources | Freeport, IL | September 28, 2014.

The following certifications have been issued. The requirements of section 222(b) (supplier to a firm whose workers are certified eligible to apply for TAA) of the Trade Act have been met.

TA-W No. | Subject firm | Location | Impact date
90,095 | Green Diamond Resource Company, Manpower | Shelton, WA | January 1, 2014.

Negative Determinations For Worker Adjustment Assistance

In the following cases, the investigation revealed that the eligibility criteria for worker adjustment assistance have not been met for the reasons specified.

The investigation revealed that the criterion under paragraph (a)(1) and (b)(1) (employment decline or threat of separation) of section 222 has not been met.

TA-W No. | Subject firm | Location | Impact date
85,089 | Bank of America, Global Technology Trading Support | San Jose, CA. |
86,007 | Goldwin America, Inc., Goldwin, Inc., Sales and Marketing Unit | Manhattan Beach, CA. |
90,091 | Industrial Television Services, Inc., General Edward Lawrence Logan International Airport | Boston, MA. |
90,301 | Kennedy Consulting, Inc | Eagle River, AK. |

The investigation revealed that the criteria under paragraphs (a)(2)(A) (increased imports) and (a)(2)(B) (shift in production or services to a foreign country) of section 222 have not been met.

TA-W No. | Subject firm | Location | Impact date
85,208 | Lockheed Martin Ship and Aviation Systems, Lockheed Martin Mission Systems and Training, DCR Workforce | Akron, OH. |
85,513 | Heartland Footwear, Inc. | Pocahontas, AR. |
85,737 | Quantum Foods, LLC, Rosa Mystica Enterprises, LLC | Bolingbrook, IL. |
85,982 | Bosch Security Systems, Inc., Security Technology North America, Aerotek | Lancaster, PA. |
86,009 | Desta Drilling LP | Odessa, TX. |
86,078 | Best Well Services, LLC | Tulsa, OK. |
86,078A | Best Well Services, LLC | Guthrie, OK. |
90,044 | First Manufacturing Company, Inc., Labor Ready and Essex Temp | Oceanside, NY. |

Determinations Terminating Investigations of Petitions for Worker Adjustment Assistance

After notice of the petitions was published in the Federal Register and on the Department's Web site, as required by section 221 of the Act (19 U.S.C. 2271), the Department initiated investigations of these petitions.

The following determinations terminating investigations were issued because the petitioner has requested that the petition be withdrawn.

TA-W No. | Subject firm | Location | Impact date
85,929 | International Business Machines (IBM), GTS Mobility Services (Desk Side Support), 07 (GTS) | Endicott, NY. |
90,126 | Sealed Air Corporation | Greenville, SC. |
90,222 | Telesource Services, LLC | Bensenville, IL. |
90,223 | Telesource Services, LLC | Pontiac, MI. |
91,020 | East Wind Code LTD | New York, NY. |

The following determinations terminating investigations were issued in cases where these petitions were not filed in accordance with the requirements of 29 CFR 90.11. Every petition filed by workers must be signed by at least three individuals of the petitioning worker group. Petitioners separated more than one year prior to the date of the petition cannot be covered under a certification of a petition under section 223(b), and therefore, may not be part of a petitioning worker group. For one or more of these reasons, these petitions were deemed invalid.

TA-W No. | Subject firm | Location | Impact date
86,079 | Airboss Defense Inc. | Milton, VT. |
90,144 | Arvato Digital Services | Reno, NV. |

The following determinations terminating investigations were issued because the petitioning groups of workers are covered by active certifications. Consequently, further investigation in these cases would serve no purpose since the petitioning group of workers cannot be covered by more than one certification at a time.

TA-W No. | Subject firm | Location | Impact date
85,617 | Day&Zimmermann, Inc., Kansas Division | Parsons, KS. |
91,058 | Transcend Services, Inc., Nuance Communications, Inc | Atlanta, GA. |

The following determinations terminating investigations were issued because the petitions are the subject of ongoing investigations under petitions filed earlier covering the same petitioners.

TA-W No. | Subject firm | Location | Impact date
90,205 | Lenovo | Morrisville, NC. |
90,274 | Legacy Measurement Solutions, Inc., Express Employment Professionals | Bristow, OK. |
91,035 | Mitsubishi Motors North America, Inc | Normal, IL. |

I hereby certify that the aforementioned determinations were issued during the period of October 26, 2015 through November 6, 2015. These determinations are available on the Department's Web site www.tradeact/taa/taa_search_form.cfm under the searchable listing of determinations or by calling the Office of Trade Adjustment Assistance toll free at 888-365-6822.

Signed at Washington, DC this 10th day of November 2015.
Jessica R. Webster,
Certifying Officer, Office of Trade Adjustment Assistance.

[FR Doc. 2015-30180 Filed 11-25-15; 8:45 am]

BILLING CODE 4510-FN-P